DEPARTMENT OF THE INTERIOR

Bureau of Land Management

[AZ-050-000-1430-EQ; AZA 25117]

Arizona: Expiration of Segregative Effect, and Opening Order for Proposed Airport Lease AZA 25117, Arizona

AGENCY: Bureau of Land Management, Interior.

ACTION: Notice of Realty Action.

SUMMARY: This action recognizes the expiration of the segregative effect as of August 20, 1998, on the following described public lands in La Paz County, Arizona. The land is hereby opened to the operation of the public land laws, including location and entry under mining laws, subject to valid existing rights.

Gila and Salt River Meridian, Arizona

T. 4 N., R. 18 W.,

Sec. 19, those lands south of Interstate 10 within lot 4, SE¼SW¼, SE½SE¼;

Sec. 30, lots 1 to 4, inclusive, E½, E½W½;

Sec. 31, lots 1 to 4, inclusive, E½, E½W½.

The area described contains approximately 1, 380 acres, more or less.

EFFECTIVE DATE: June 12, 2000.

FOR FURTHER INFORMATION CONTACT: Lucas Lucero, Realty Specialist, Yuma Field Office, 2555 E. Gila Ridge Road, Yuma, Arizona 85365, or (520) 317-3237.

SUPPLEMENTARY INFORMATION: The segregative effect for Airport Lease Application AZA 25117, was made on August 19, 1993; August 24, 1994; August 29, 1995; and August 21, 1997. The segregation was made pursuant to the Act of May 24, 1928 (49 U.S.C. Appendices 211-213) as amended by the Act of August 16, 1941 (55 Stat. 621).

The segregative effect is hereby terminated for all public lands encumbered by Airport Lease Application AZA 25117.

At 9 a.m. on June 12, 2000, the land encumbered by Airport Lease Application AZA 25117, will be opened to location and entry under the United States mining laws, subject to valid existing rights, the provisions of existing withdrawals, other segregations of record, and the requirements of applicable law. All valid applications received at or prior to 9 a.m. on (date of publication), shall be considered as simultaneously filed at that time. Those received thereafter shall be considered in the order of filing. Appropriation of any of the land described in this order under the general mining laws prior to the date and time of restoration is unauthorized. Any such attempted adverse possession under 30 U.S.C. 38 (1988), shall vest no rights against the United States. Acts required to establish a location and to initiate a right of possession are governed by State law where not in conflict with Federal law. The Bureau of Land Management will not intervene in disputes between rival locators over possessory rights since Congress has provided for such determinations in local courts.

Dated: June 6, 2000.
Mervin Boyd,
Assistant Field Manager, Yuma.

[FR Doc. 00-14715 Filed 6-9-00; 8:45 am]

BILLING CODE 4310-32-M